DEPARTMENT OF JUSTICE

Notice of Lodging of Consent Decree Under the Clean Air Act

Notice is hereby given that on January 21, 2010, a proposed consent decree in United States v. Saint-Gobain Containers, Inc., Civil Action No. 2:10-cv-00121-TSZ was lodged with the United States District Court for the Western District of Washington.

In this action the United States sought civil penalties and injunctive relief at 15 of Saint-Gobain's manufacturing facilities across the United States for violations of Parts C and D of Title I of the Act, 42 U.S.C. 7470-7492, 7501-7515, the Prevention of Significant Deterioration (PSD) and Nonattainment New Source Review (NNSR) provisions of the Act; and the federally-enforceable State Implementation Plans (SIPs) for California, Illinois, Indiana, Louisiana, Massachusetts, Missouri, New Jersey, North Carolina, Oklahoma, Pennsylvania, Texas, Washington, and Wisconsin approved by EPA pursuant to Section 110 of the Act, 42 U.S.C. 7410, which incorporate and/or implement the above-listed federal requirements. The consent decree Under the Consent Decree, Saint-Gobain will pay a civil penalty of $2,250,000, which will be shared with the participating states and localities, and will implement substantial injunctive relief to reduce pollution by installing new control equipment and accepting much more stringent emission limits. Saint-Gobain will install controls at 29 furnaces involved in the settlement and will install continuous emission monitors at each of those facilities. The estimated capital cost of all of the pollution control projects to be implemented, is at least $112 million.

The Department of Justice will receive for a period of 30 days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Saint-Gobain Containers, Inc., D.J. Ref. 90-5-2-1-06982/1.

The consent decree may be examined at the Office of the United States Attorney, 5220 United States Courthouse, 700 Stewart Street, Seattle, Washington 98101-1271, and at U.S. EPA Region 10, 1200 Sixth Avenue, Suite 900, Seattle, Washington 98101. During the public comment period, the consent decree, may also be examined on the following Department of Justice Web site, to http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $43.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-1450 Filed 1-25-10; 8:45 am]

BILLING CODE 4410-15-P